ENVIRONMENTAL PROTECTION AGENCY

40 CFR Part 50

[EPA-HQ-OAR-2007-0492; FRL-9298-4]

Release of Final Document Related to the Review of the National Ambient Air Quality Standards for Particulate Matter

AGENCY: Environmental Protection Agency (EPA).

ACTION: Notice of availability.

SUMMARY: The Office of Air Quality Planning and Standards (OAQPS) of EPA is announcing the availability of a final document titled, Policy Assessment for the Review of the Particulate Matter National Ambient Air Quality Standards (PA). The PA contains staff analyses of the scientific bases for alternative policy options for consideration by the Agency prior to rulemaking.

DATES: The PA will be available on or about April 19, 2011.

ADDRESSES: The document will be available via the Internet at the following Web site: http://www.epa.gov/ttn/naaqs/standards/pm/s_pm_2007_pa.html.

FOR FURTHER INFORMATION CONTACT: For questions related to this final document, please contact Ms. Beth Hassett-Sipple, Office of Air Quality Planning and Standards (Mail code C504-06), U.S. Environmental Protection Agency, Research Triangle Park, NC 27711; e-mail: hassett-sipple.beth@epa.gov; telephone: 919-541-4605; fax: 919-541-0237.

SUPPLEMENTARY INFORMATION: Under section 108(a) of the Clean Air Act (CAA), the Administrator identifies and lists certain pollutants which “cause or contribute to air pollution which may reasonably be anticipated to endanger public health or welfare.” The EPA then issues air quality criteria for these listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes primary (health-based) and secondary (welfare-based) national ambient air quality standards (NAAQS) for pollutants for which air quality criteria are issued. Section 109(d) of the CAA requires periodic review and, if appropriate, revision of existing air quality criteria. The revised air quality criteria reflect advances in scientific knowledge on the effects of the pollutant on public health or welfare. The EPA is also required to periodically review and revise the NAAQS, if appropriate, based on the revised criteria.

Presently, EPA is reviewing the NAAQS for particulate matter (PM).¹ The document announced today, Policy Assessment for the Review of the Particulate Matter National Ambient Air Quality Standards, contains staff analyses of the scientific bases for alternative policy options for consideration by the Agency prior to rulemaking. This document, which builds upon the historical “Staff Paper,” will serve to “bridge the gap” between the available scientific information and the judgments required of the Administrator in determining whether it is appropriate to retain or revise the standards.² The current and potential alternative PM standards are considered in terms of the basic elements of the NAAQS: indicator, averaging time, form, and level. The PA builds upon information presented in the Integrated Science Assessment for Particulate Matter (ISA, EPA 600/R-08/139F and EPA 600/R-08/139FA, December 2009) and two quantitative risk and exposure assessment documents (REAs)—Quantitative Health Risk Assessment for Particulate Matter (EPA 452/R-10-005; June 2010) and Particulate Matter Urban-Focused Visibility Assessment (EPA 452/R-10-004, July 2010).

¹ The EPA's initial overall plan and schedule for this review was presented in the Integrated Review Plan for the National Ambient Air Quality Standards for Particulate Matter (EPA 452/R-08-004, March 2008). Documents related to the current PM NAAQS review are available at: http://www.epa.gov/ttn/naaqs/standards/pm/s_pm_index.html.

² See http://www.epa.gov/ttn/naaqs/review.html for a copy of Administrator Jackson's May 21, 2009, memorandum and for additional information on the NAAQS review process.

A preliminary draft PA (EPA-452/P-09-007) was released in September 2009 for informational purposes and to facilitate discussion with the Clean Air Scientific Advisory Committee (CASAC) at an October 5-6, 2009, meeting on the overall structure, areas of focus, and level of detail to be included in the PA (74 FR 46586, September 10, 2009). CASAC's comments on the preliminary draft PA encouraged the development of a document focused on the key policy-relevant issues that draws from and is not repetitive of information in the Integrated Science Assessment (ISA) and REAs. These comments were considered in developing a first draft PA (EPA-452/P-10-003, March 2010; 75 FR 4067, January 26, 2010) that built upon the information presented and assessed in the ISA and second draft REAs (EPA-452/P-10-001, February 2010; EPA-452/P-10-002, January 2010). The EPA presented an overview of the first draft PA at a CASAC meeting on March 10, 2010 (75 FR 8062, February 23, 2010). CASAC and public review of the first draft PA was discussed during public teleconferences on April 8-9, 2010, (75 FR 8062, February 23, 2010) and May 7, 2010 (75 FR19971, April 16, 2010).

CASAC (Samet, 2010a) ³ and public comments on the first draft PA were considered by EPA staff in developing a second draft PA (EPA 452/P-10-007, June 2010) based on the ISA and final REAs. The EPA solicited advice and recommendations from CASAC regarding the second draft PA at a public meeting that was held on July 26-27, 2010 (75 FR 32763, June 9, 2010). Following the CASAC meeting, EPA considered comments received from CASAC (Samet, 2010b) ⁴ and the public in preparing the final PA. The final PA is available through the Agency's Technology Transfer Network (TTN) Web site at http://www.epa.gov/ttn/naaqs/standards/pm/s_pm_2007_pa.html.

³ Samet J (2010a). Letter from Dr. Jonathan M. Samet, Chair, Clean Air Scientific Advisory Committee to the Honorable Lisa P. Jackson, Administrator, U.S. EPA. CASAC Review of Policy Assessment for the Review of the PM NAAQS—First External Review Draft (March 2010). May 17, 2010. Available at: http://yosemite.epa.gov/sab/sabproduct.nsf/264cb1227d55e02c85257402007446a4/E504EE3276D87A9E8525772700647AFB/$File/EPA-CASAC-10-011-unsigned.pdf.

⁴ Samet J (2010b). Letter from Dr. Jonathan M. Samet, Chair, Clean Air Scientific Advisory Committee to the Honorable Lisa P. Jackson, Administrator, U.S. EPA. CASAC Review of Policy Assessment for the Review of the PM NAAQS—Second External Review Draft (June 2010). September 10, 2010. Available at: http://yosemite.epa.gov/sab/sabproduct.nsf/264cb1227d55e02c85257402007446a4/CCF9F4C0500C500F8525779D0073C593/$File/EPA-CASAC-10-015-unsigned.pdf.

Dated: April 15, 2011.
Mary Henigin,
Acting Director, Office of Air Quality Planning and Standards.

[FR Doc. 2011-9688 Filed 4-21-11; 8:45 am]

BILLING CODE 6560-50-P